DEPARTMENT OF DEFENSE

Department of the Army

Record of Decision (ROD) for the Realignment, Growth, and Stationing of Army Aviation Assets

AGENCY: Department of the Army, DoD.

ACTION: Notice of Availability (NOA).

SUMMARY: The Assistant Deputy Chief of Staff of the Army, G-3/5/7, has reviewed the “Final Programmatic Environmental Impact Statement (FPEIS) for Realignment, Growth, and Stationing of Army Aviation Assets” and has made the decision to proceed with the implementation of Alternative 3 (preferred alternative). Specific details of the decision are captured in the Army's ROD for this action. This ROD explains the Army will activate and station a new Combat Aviation Brigade (CAB) at Fort Carson, Colorado, resulting in a total growth of approximately 2,700 Soldiers and 113 helicopters. As part of this decision, Joint Base Lewis-McChord (JBLM), Washington, will receive existing aviation units that will be realigned from other locations and will gain approximately 1,400 new Soldiers and 44 helicopters. Implementation of this decision will include CAB training at each installation and at their respective satellite maneuver training areas: Piñon Canyon Maneuver Site (PCMS) for Fort Carson and Yakima Training Center (YTC) for JBLM. This alternative best supports the need for realignment, growth, and realignment of aviation units.

ADDRESSES: Questions or comments regarding the ROD should be forwarded to: Public Affairs Office, U.S. Army Environmental Command, Attention: IMPA-AE, 1835 Army Boulevard, Fort Sam Houston, TX 78234-2686.

FOR FURTHER INFORMATION CONTACT: Public Affairs Office at (210) 221-0882; fax (410) 436-1693, during normal business hours; or e-mail APGR-USAECNEPA@conus.army.mil.

SUPPLEMENTARY INFORMATION: The ROD incorporates analyses contained in the “Final Programmatic Environmental Impact Statement (FPEIS) for the Realignment, Growth, and Stationing of Army Aviation Assets,” including comments provided during formal comment and review periods. The ROD discusses each alternative for the Proposed Action and provides a discussion of environmental impacts and mitigation commitments the Army will implement as part of this decision. The selected action best supports the need for con-solidation, growth, and stationing of aviation assets. This need includes addressing imbalances between mission requirements and available aviation forces, and also improving training opportunities for aviation and ground units. The decision will increase the availability of rotary wing units to meet current and future national security requirements and will allow the Army better to organize existing aviation units to promote more effective training and force management. Existing CABs cannot meet the continuing high demand sufficient to meet the Army's goal of a one year deployed boots-on-the-Ground (BOG) to a two-year home station stabilization or 1:2 BOG to dwell ratio. The completion of these stationing actions will provide sufficient aviation assets to allow Soldiers more time at home between deployments. Furthermore, Fort Carson and JBLM do not currently have a CAB to support integrated air-ground operations. Air-ground integration training between CAB units and ground units allows each type of unit to maneuver more effectively with the other, understand key limitations and requirements, promote increased training readiness, and effectively prepare Army units for operational deployments abroad. In addition, both Fort Carson and JBLM are world-class military installations that have modernized range and training infrastructure and existing airfields capable of supporting CAB units. Both installations have adequate maneuver lands and airspace access, and the capability to provide CAB units with new or existing administrative space and garrison support infrastructure.

The decision to realign components of a CAB to JBLM instead of stationing a full CAB there will reduce the impacts a full CAB would have had to traffic on Interstate 5 and other congested roadways and also reduce impacts on local schools. Split stationing existing CAB units and realigning less than a full CAB to JBLM will also ensure that critical aviation lift assets will remain in Alaska to support operations there. This split stationing approach will provide units at JBLM with full CAB training capability and benefits when realigned units are added to JBLMs existing aviation units.

Environmental impacts associated with the implementation of the decision include potentially significant impacts to: transportation on the Interstate 5 corridor near JBLM, fish and water quality in Puget Sound, and noise impacts to sensitive receptors. There are potentially significant impacts to biological resources at YTC from increased potential for wildfire and habitat degradation associated with aviation training. There may also be significant but mitigable impacts to soils at Fort Carson, PCMS, and YTC as well as significant but mitigable impacts to water resources at YTC. At PCMS, cumulative impacts to soils are predicted to be manageable with current dust control mitigation techniques. Impacts to cultural resources, air quality, noise, and public land use were all predicted to be less than significant.

This decision provides the proper balance for addressing the shortfall in aviation force structure, optimizing training readiness, and enhancing quality of life for Soldiers and their Families by increasing the times between deployments for aviation Soldiers. As part of the implementation of this decision, the Army will take practical measures to mitigate impacts to protect and sustain the environment.

A summary of environmental impacts and rationale for the decision can be found in the ROD which is available along with the FPEIS for public review at http://aec.army.mil/usaec/nepa/topics00.html.

Dated: March 25, 2011.
Hershell E. Wolfe,
Acting Deputy Assistant Secretary of the Army (Environment, Safety and Occupational Health)

[FR Doc. 2011-7507 Filed 3-30-11; 8:45 am]

BILLING CODE 3710-08-P